DEPARTMENT OF THE INTERIOR

Bureau of Land Management

[LLWYR05000 L13140000.NB0000 19X]

Notice of Availability of the Draft Environmental Impact Statement for the Moneta Divide Natural Gas and Oil Development Project and Draft Casper Resource Management Plan Amendment, WY

AGENCY: Bureau of Land Management, Interior.

ACTION: Notice of availability.

SUMMARY: In accordance with the National Environmental Policy Act of 1969, as amended, and the Federal Land Policy and Management Act of 1976, as amended, the Bureau of Land Management (BLM) has prepared a Draft Environmental Impact Statement (EIS) and Draft Resource Management Plan (RMP) Amendment for the proposed Moneta Divide Natural Gas and Oil Development Project within the BLM Lander, Casper and Rawlins field offices, and by this notice is announcing the opening of a 90-day public comment period.

DATES: To ensure that comments will be considered, the BLM must receive written comments on the Draft EIS and Draft RMP Amendment within 90 days following the date the Environmental Protection Agency publishes the notice of availability of the Draft EIS in the Federal Register. The BLM will announce future meetings or any other public participation activities at least 15 days in advance through public notices, media releases, and/or mailings.

ADDRESSES: You may submit comments related to the Draft EIS by either of the following methods:

• Email: BLM_WY_LD_Moneta_Divide_EIS@blm.gov

• Mail: Kristin Yannone, Moneta Divide EIS Project Manager, BLM Lander Field Office, 1335 Main Street, Lander, WY 82520

Copies of the Draft EIS are available on the project website at: https://go.usa.gov/xnU9z or at the following locations:

• BLM Lander Field Office, 1335 Main Street, Lander, Wyoming

• BLM Casper Field Office, 2987 Prospect Drive, Casper, Wyoming

• BLM Rawlins Field Office, 1300 North Third Rawlins, Wyoming

FOR FURTHER INFORMATION CONTACT: Kristin Yannone, Moneta Divide EIS Project Manager, BLM Lander Field Office, 1335 Main Street, Lander, WY 82520, 307-332-8448, kyannone@blm.gov. Persons who use telecommunications device for the deaf (TDD) may call the Federal Relay Service (FRS) at 1-800-877-8339 to contact the above individual during normal business hours. The FRS is available 24 hours a day, 7 days a week to leave a message or question with the above individual. You will receive a reply during normal business hours.

SUPPLEMENTARY INFORMATION: The Moneta Divide project is principally located along U.S. Route 20/26 near the town of Lysite in Fremont and Natrona counties, Wyoming. A proposed product pipeline extends south from the oil and gas production area through Fremont and Sweetwater counties to Wamsutter, Wyoming. The project spans the BLM Wind River/Bighorn Basin, High Plains and High Desert districts. The project area encompasses approximately 327,645 acres of public, state and private lands. Approximately 67 percent of the project area is located on BLM-administered public lands.

Aethon Energy Operating, LLC and Burlington Resources Oil & Gas Company, LP are proposing to develop up to 4,250 wells and associated facilities over a 15-year period. Under the Plan of Development, Aethon would drill up to 4,100 wells, of which approximately two-thirds would be drilled vertically from single-well pads and one-third would be drilled directionally from multi-well pads, consisting of four wells per pad. Burlington would drill up to 150 wells from single-well pads. The proponents would utilize disposal wells, water treatment plants, evaporation ponds, surface discharge and other approaches to produced-water management. Water pipelines delivering treated produced water to Boysen Reservoir could also be built. Associated access roads, pipelines, compressor stations and other ancillary facilities would be co-located where possible to further minimize surface disturbance.

The BLM analyzed four alternatives: Alternative 1, the No Action Alternative, includes existing standard stipulations and oil and gas well development authorized during the preparation of the EIS in accordance with the Interim Drilling Plan.

Alternative 2, the Proposed Action, is the proponents' Plan of Development.

Alternative 3 emphasizes resource production, analyzing development using only single-well pads and other measures that facilitate oil and gas development within the project area.

Alternative 4 addresses a range of resource issues identified during scoping and provides the proponents greater flexibility to treat and dispose of produced water. Specifically, Alternative 4 analyzes reduced surface disturbance through more directionally drilled wells placed on multi-well pads, wildlife and cultural resources protection measures, and a water management strategy that would involve greater surface discharge of produced water and more disposal wells.

All action alternatives (Alternatives 2, 3 and 4) analyzed the same rate of development although Alternative 4 would allow a slower pace of development, if needed, for managing produced water in accordance with federal and state requirements.

The Draft EIS also evaluates amendments to the Casper RMP, which are analyzed under Alternatives 3 and 4. Under Alternative 3, the Casper RMP would be amended to establish a Designated Development Area in the portion of the Moneta Divide oil and gas well production area in the Casper Field Office to facilitate intensive mineral production. Under Alternative 4, the Casper RMP would be amended to increase the protections of the Cedar Ridge Traditional Cultural Property. The proposed amendments are not required in order to authorize the Moneta Divide project, which as proposed, is in conformance with the Casper RMP. Depending upon the alternative selected, the BLM would issue its decision to amend the Casper RMP in a separate Record of Decision from the Moneta Divide project.

All alternatives conform to the provisions of the Lander RMP Record of Decision (2014), Casper RMP Record of Decision (2007) and Rawlins RMP Record of Decision (2008), as amended.

Treatment and disposal of produced water would be in compliance with State of Wyoming permit(s) including all protections against degradation of public lands. All alternatives require that interim and final reclamation activities would be implemented to return the landscape to proper biological and ecological function in conformance with the Moneta Divide Reclamation Plan and the relevant Resource Management Plans.

Formal public scoping for the Moneta Divide project began on January 17, 2013, with the publication in the Federal Register of the Notice of Intent to prepare an EIS and a possible land use plan amendment to the Casper RMP (78 FR 3911). Public scoping comments were used to identify issues that informed the formulation of alternatives and framed the scope of analysis for the Draft EIS.

Before including your address, phone number, email address or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Mary Jo Rugwell,
BLM Wyoming State Director.

[FR Doc. 2019-07701 Filed 4-18-19; 8:45 am]

BILLING CODE 4310-22-P